DEPARTMENT OF LABOR

Employment and Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 3, 2010.

Interested persons are invited to submit written comments regarding the subject matter of the investigations to the Director, Division of Trade Adjustment Assistance, at the address shown below, not later than May 3, 2010.

The petitions filed in this case are available for inspection at the Division of Trade Adjustment Assistance, Employment and Training Administration, U.S. Department of Labor, Room N-5428, 200 Constitution Avenue, NW., Washington, DC 20210.

Signed at Washington, DC, this 16th day of April 2010.
Richard Church,
Certifying Officer, Division of Trade Adjustment Assistance.

Appendix
[TAA petitions instituted between 4/5/10 and 4/9/10]
TA-W | Subject firm (petitioners) | Location | Date of institution | Date of petition
73843 | Hasbro, Inc. (Company) | East Longmeadow, MA | 04/05/10 | 04/01/10
73844 | JC Penney (Wkrs) | Waterford, MI | 04/05/10 | 04/03/10
73845 | Ryder Integrated Logistics (State/One-Stop) | Georgetown, KY | 04/05/10 | 03/05/10
73846 | AT and T (State/One-Stop) | Boulder, CO | 04/05/10 | 04/02/10
73847 | PricewaterhouseCoopers, LLP (Workers) | Florham Park, NJ | 04/05/10 | 03/22/10
73848 | MDM Supply (Company) | Missoula, MT | 04/06/10 | 04/01/10
73849 | LTX Credence Corporation (State/One-Stop) | Hillsboro, OR | 04/06/10 | 03/16/10
73850 | CPC Logistics (Company) | Chesterfield, MO | 04/06/10 | 03/22/10
73851 | Mueller Steam Specialties (Company) | St. Pauls, NC | 04/06/10 | 04/05/10
73852 | General Motors (State/One-Stop) | Shreveport, LA | 04/06/10 | 03/19/10
73853 | Science Applications International Corporation (State/One-Stop) | Naperville, IL | 04/06/10 | 04/05/10
73854 | Mine Safety Appliances Company (Company) | Englewood, CO | 04/06/10 | 03/24/10
73855 | The Karsten Company (Workers) | Stayton, OR | 04/06/10 | 03/11/10
73856 | Accent Marketing (Company) | Monroe, LA | 04/06/10 | 03/30/10
73857 | The Marlin Firearms Company, Inc. (State/One-Stop) | North Haven, CT | 04/06/10 | 04/01/10
73858 | Hugo Boss (Workers) | Brooklyn, OH | 04/06/10 | 03/22/10
73859 | Watkins Shepard Trucking (Workers) | Missoula, MT | 04/06/10 | 03/23/10
73860 | Metalsa (Workers) | Pottstown, PA | 04/06/10 | 04/01/10
73861 | Automatic Feed Company (Workers) | Napoleon, OH | 04/06/10 | 03/22/10
73862 | J C Penney (Workers) | Plano, TX | 04/06/10 | 03/19/10
73863 | Super Media LLC (Union) | Bensalem, PA | 04/06/10 | 04/05/10
73864 | Super Media LLC (Union) | Chadds Ford, PA | 04/06/10 | 04/05/10
73865 | Super Media LLC (Union) | Monroeville, PA | 04/06/10 | 04/05/10
73866 | Super Media LLC (Union) | Bethlehem, PA | 04/06/10 | 04/05/10
73867 | Super Media LLC (Union) | Harrisburg, PA | 04/06/10 | 04/05/10
73868 | Hewlett Packard Corporation (State/One-Stop) | Marlborough, MA | 04/07/10 | 04/07/10
73869 | iLevel by Weyerhaeuser (Company) | Greenwood Village, CO | 04/07/10 | 04/06/10
73870 | Amphenol TCS (State/One-Stop) | Milpitas, CA | 04/07/10 | 04/06/10
73871 | iLevel by Weyerhaeuser (Company) | Sacramento, CA | 04/06/10 | 04/06/10
73872 | Goodrich Aerospace/Landing Gear (Union) | Cleveland, OH | 04/07/10 | 03/18/10
73873 | Teleperformance USA (Workers) | Salt Lake City, UT | 04/07/10 | 03/30/10
73874 | B&M of Illinois, Inc. (State/One-Stop) | Carlyle, IL | 04/07/10 | 04/06/10
73875 | TechTeam Global (State/One-Stop) | Southfield, MI | 04/07/10 | 04/02/10
73876 | Lorik Tool Inc. (Workers) | Lawrenceburg, TN | 04/07/10 | 03/30/10
73877 | L.A. Najarian, Inc. (Company) | Greene, NY | 04/07/10 | 03/29/10
73878 | HNTB (Workers) | Kanas City, MO | 04/08/10 | 04/01/10
73879 | Applied Materials (Company) | Santa Clara, CA | 04/08/10 | 04/02/10
73880 | Weston Wear Inc. (Workers) | San Francisco, CA | 04/08/10 | 04/02/10
73881 | WM Coffman LLC (Company) | Marion, VA | 04/08/10 | 04/07/10
73882 | The Ford Motor Company (State/One-Stop) | Maumee, OH | 04/08/10 | 04/07/10
73883 | Amphenol Sine Systems (Company) | Lake Wales, FL | 04/08/10 | 04/08/10
73884 | Integrated Silicon Solution, Inc. (ISSI) (Company) | San Jose, CA | 04/08/10 | 04/07/10
73885 | IAC Sheboygan (Union) | Sheboygan, WI | 04/09/10 | 04/06/10
73886 | Burton Manufacturing Center (Company) | South Burlington, VT | 04/09/10 | 03/23/10
73887 | ITT-FB (Union) | Zelienople, PA | 04/09/10 | 04/08/10
73888 | Beverage Air (Workers) | Brookville, PA | 04/09/10 | 04/06/10
73889 | Health Net, Inc. (Company) | Woodland Hills, CA | 04/09/10 | 04/07/10
73890 | Pioneer Press (Workers) | Kaukauna, WI | 04/09/10 | 03/30/10
73891 | Emerson Process Management (Workers) | McKinney, TX | 04/09/10 | 04/07/10
73892 | American Greetings (Union) | Kalamazoo, MI | 04/09/10 | 04/05/10
73893 | Sensata Technologies (Company) | Cambridge, MD | 04/09/10 | 03/24/10
73894 | United Auto Workers Local 2244 (Union) | Fremont, CA | 04/09/10 | 04/08/10
73895 | Idaho Timber of Kansas, LLC (Company) | Halstead, KS | 04/09/10 | 04/08/10
73896 | Victory Industrial Products, LLC (State/One-Stop) | Batavia, OH | 04/09/10 | 04/08/10
73897 | Ebix, Incorporated (Workers) | Atlanta, GA | 04/09/10 | 04/02/10
73898 | GE Transportation (Union) | Erie, PA | 04/09/10 | 04/08/10

[FR Doc. 2010-9482 Filed 4-22-10; 8:45 am]

BILLING CODE 4510-FN-P